SECURITIES AND EXCHANGE COMMISSION

[File No. 500-1]

the Matter of ErgoBilt, Inc., FPB Bancorp, Inc., Geos Communications, Inc., Integra Bank Corporation, Latitude Solutions Inc., Noram Capital Holdings, Inc., Raptor Technology Group, Inc., and Subjex Corp.; Order Of Suspension Of Trading

July 10, 2014

It appears to the Securities and Exchange Commission that there is a lack of current and accurate information concerning the securities of ErgoBilt, Inc. because it has not filed any periodic reports since the period ended September 30, 1997.

It appears to the Securities and Exchange Commission that there is a lack of current and accurate information concerning the securities of FPB Bancorp, Inc. because it has not filed any periodic reports since the period ended March 31, 2011.

It appears to the Securities and Exchange Commission that there is a lack of current and accurate information concerning the securities of Geos Communications, Inc. because it has not filed any periodic reports since the period ended March 31, 2011.

It appears to the Securities and Exchange Commission that there is a lack of current and accurate information concerning the securities of Integra Bank Corporation because it has not filed any periodic reports since the period ended March 31, 2011.

It appears to the Securities and Exchange Commission that there is a lack of current and accurate information concerning the securities of Latitude Solutions, Inc. because it has not filed any periodic reports since the period ended March 31, 2012.

It appears to the Securities and Exchange Commission that there is a lack of current and accurate information concerning the securities of Noram Capital Holdings, Inc. because it has not filed any periodic reports since the period ended March 31, 2010.

It appears to the Securities and Exchange Commission that there is a lack of current and accurate information concerning the securities of Raptor Technology Group, Inc. because it has not filed any periodic reports since the period ended September 30, 2011.

It appears to the Securities and Exchange Commission that there is a lack of current and accurate information concerning the securities of Subjex Corp. because it has not filed any periodic reports since the period ended March 31, 2011.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on July 10, 2014, through 11:59 p.m. EDT on July 23, 2014.

By the Commission.
Jill M. Peterson,
Assistant Secretary.

[FR Doc. 2014-16518 Filed 7-10-14; 4:15 pm]

BILLING CODE 8011-01-P